DEPARTMENT OF THE INTERIOR

Bureau of Indian Affairs

Western Shoshone Application Form, Submission to Office of Management and Budget

AGENCY: Bureau of Indian Affairs, Interior.

ACTION: Notice of Submission of Information Collection.

SUMMARY: The Bureau of Indian Affairs (BIA) is submitting to the Office of Management and Budget (OMB) a request for the renewal of a tribal enrollment information collection as required by the Paperwork Reduction Act. The information, collected under OMB Control No. 1076-0165, will be used to establish that the applicants meet the eligibility requirements to share in the Western Shoshone judgment fund distribution.

DATES: Submit comments on or before July 7, 2008.

ADDRESSES: You may submit comments on the information collection to the Desk Officer for the Department of the Interior at the Office of Management and Budget, by facsimile at (202) 395-6566 or you may send an e-mail to: OIRA_DOCKET@omb.eop.gov. Please send copy of comments to Iris Drew, Office of Indian Services, Bureau of Indian Affairs, 1001 Indian School Road, NW., Albuquerque, New Mexico 87104. Fax number: (505) 563-3060.

FOR FURTHER INFORMATION CONTACT: Ms. Iris Drew, Tribal Relations Specialist, Tribal Government Services. Telephone: (505) 563-3530.

SUPPLEMENTARY INFORMATION: This collection was authorized by the Act of July 7, 2004, Public Law 108-270 and originally approved and assigned OMB Control No. 1076-0165 when it was submitted with a proposed rulemaking, 25 CFR part 61, which was published in the Federal Register on May 19, 2005, at 70 FR 28859. The final rule was published in the Federal Register on March 5, 2007, at 72 FR 9836. A request for comments on this information collection request appeared in the Federal Register (73 FR 10461) on February 27, 2008. No comments were received during or before the close of the public comment period of April 28, 2008.

Request for Comments: Please send your comments on this collection to the two locations listed in the ADDRESSES section. Your comments should be about the proposed collection to evaluate:

(a) The necessity of the information collection for proper performance of the bureau functions, including its practical utility;

(b) The accuracy of the burden hours, including the validity of the methodology use and assumptions made;

(c) The quality, utility and clarity of the of the information to be collected; and

(d) Suggestions to reduce the burden including use of automated electronic, mechanical, or other forms of information technology.

The public is advised that an agency may not sponsor or request, and an individual need not respond to, a collection of information unless it has a valid OMB Control Number.

Please submit your comments to the persons listed in the ADDRESSES section. Please note that all comments received will be available for public review two weeks after comment period closes. Before including your address, phone number, e-mail address or other personally identifiable information, be advised that your entire comment—including your personally identifiable information—may be made public at any time. While you may request that we withhold your personally identifiable information, we cannot guarantee that we will be able to do so. We do not consider anonymous comments. All comments from representatives of businesses or organizations will be made public in their entirety.

OMB has up to 60 days to make a decision on the submission for renewal, but may make the decision after 30 days. Therefore, to receive the best consideration of your comments, you should submit them closer to 30 days than 60 days.

OMB Approval Number: 1076-0165.

Title: Application to Share in the Western Shoshone Funds as a Lineal Descendant of the Western Shoshone Identifiable Group, 25 CFR Part 61.

Brief Description of Collection: The information collected is required for individuals to participate in the per capita distribution pursuant to the Act of July 7, 2004, Public Law 108-270. Subsection 3(b) of Public Law 108-270, requires the Secretary of the Interior to prepare a Western Shoshone judgment roll consisting of all individuals who—(a) have a least 1/4 degree of Western Shoshone blood; (b) are citizens of the United States; and (c) are living on July 7, 2004.

Ineligible Individuals: Any individual that is certified by the Secretary to be eligible to receive a per capita payment from any other judgment funds based on an aboriginal land claim awarded by the Indian Claims Commission, the United States Claims Court, or the United States Court of Federal Claims, that was appropriated on or before July 7, 2004, will not be listed on the judgment roll.

Type of Review: Renewal.

Respondents: Individual Indians able to prove lineal descendency of the Western Shoshone Identifiable group pursuant to the Act of July 7, 2004, Public Law 108-270.

Number of Respondents: We have received approximately 7,000 applications since the application period opened in April 2007. We expect to receive an additional 6,000 applications over a three-year period.

Estimated Time per Response: The burden of preparing and submitting an application to share in the judgment funds distribution will vary widely, depending upon the applicant's age and family history. The time will vary from 1 hour for older individuals to 20 hours for younger or non enrolled individuals. We are using 11 hours as an average per individual response.

Frequency of Response: Each applicant will be required to file only once.

Total Annual Burden to Respondents: 2,000 requests per year at 11 hours per response, for a total reporting and record keeping annual burden of 22,000 hours.

Additional Costs per Application: An average cost of $23.75 per applicant for document reproduction with a total annual burden of $47,500.

Dated: May 28, 2008.
Sanjeev “Sonny” Bhagowalia,
Chief Information Officer—Indian Affairs.

[FR Doc. E8-12404 Filed 6-3-08; 8:45 am]

BILLING CODE 4310-4J-P